DEPARTMENT OF COMMERCE

Office of the Secretary

[Docket No.: 130514469-3562-02]

Notice of Extension of Comment Period for Draft Initial Comprehensive Plan and Draft Environmental Assessment

AGENCY: Office of the Secretary, U.S. Department of Commerce.

ACTION: Notice of Extension of Public Comment Period.

SUMMARY: Pursuant to the Resources and Ecosystems Sustainability, Tourist Opportunities, and Revived Economies of the Gulf States Act (RESTORE Act), the Secretary of Commerce, as Chair of the Gulf Coast Ecosystem Restoration Council (Council), announces the extension of the public comment period for the Draft Initial Comprehensive Plan (Draft Plan) to restore and protect the Gulf Coast region and the Draft Programmatic Environmental Assessment (Draft PEA) for the Draft Plan. Council Members also have compiled preliminary lists of ecosystem restoration projects that are “authorized but not yet commenced” and the full Council is in the process of evaluating these lists; the Council announces the availability of these preliminary lists. If you previously submitted comments, please do not resubmit them because the Council has already incorporated them into the public record and will fully consider them.

DATES: To ensure consideration, we must receive your written comments by July 8, 2013.

ADDRESSES: You may submit comments on the Draft Plan, the preliminary lists of “authorized but not yet commenced” ecosystem restoration projects, and Draft PEA by either of the following methods:

• Electronic Submission: Submit all electronic public comments via www.restorethegulf.gov.

• Mail/Commercial Delivery: Please send a copy of your comments to Gulf Coast Ecosystem Restoration Council, c/o U.S. Department of Commerce, 1401 Constitution Avenue NW., Room 4077, Washington, DC 20230.

FOR FURTHER INFORMATION CONTACT: The Council can be reached at restorecouncil@doc.gov.

SUPPLEMENTARY INFORMATION: On May 29, 2013, we published a Federal Register notice (78 FR 32237) announcing the availability of the Draft Plan, the preliminary lists of “authorized but not yet commenced” ecosystem restoration projects, and the Draft PEA for the Draft Plan and requesting comments, to be submitted by June 24, 2013. To provide additional time for responses, this notice extends the comment period until July 8, 2013.

The Council is seeking public and tribal comment on all aspects of the Draft Plan. In particular, the Council seeks public and tribal comment on the following:

(1) The Draft Plan includes restoration Priority Criteria established in the RESTORE Act and applicable to the Council's selection of projects and programs for the first three years after publication of the Initial Comprehensive Plan. The Council is considering further defining these criteria and developing additional criteria for consideration.

a. Should the Council further define the Priority Criteria? If so, how?

b. Should the Council develop additional criteria for consideration now or in the future? If so, what should they be?

(2) The “Objectives” section of the Draft Plan describes the broad types of activities the Council envisions funding in order to achieve its ecosystem restoration goals.

a. Should the Council consider other Objectives at this juncture? If not, at what point, if any, should the Council consider additional Objectives? If so, what should they be?

b. Similarly, should the Council eliminate any of the Objectives? If so, what effect will elimination of the Objective(s) have on the Council's ability to ensure a regional ecosystem approach to restoration?

c. How should the Council prioritize its restoration Objectives?

(3) The Council is considering establishing or engaging advisory committees as may be necessary, such as a citizens' advisory committee and/or a science advisory committee, to provide input to the Council in carrying out its responsibilities under the RESTORE Act.

a. Should the Council establish any advisory committees?

b. If so, what type of advisory committees should the Council establish? How should the Council structure such advisory committees? What role should such advisory committees play?

In accordance with the National Environmental Policy Act (NEPA), 42 U.S.C. §§ 4321-4335, and the Council on Environmental Quality's regulations implementing NEPA, 40 C.F.R. Parts 1500-1507, the Council has prepared a Draft PEA on the Draft Plan. The Council is also seeking public comment on all aspects of the Draft PEA in addition to all aspects of the Draft Plan and the preliminary list of “authorized but not yet commenced” ecosystem restoration projects compiled by Council Members.

Document Availability: Copies of the Draft Plan, the preliminary list of “authorized but not yet commenced” projects and programs, and Draft PEA are available at the following office during regular business hours: Department of Commerce, 1401 Constitution Avenue NW., Room 4077, Washington, DC 20230. Electronic versions of the documents can be viewed and downloaded at www.restorethegulf.gov.

Legal Authority: The statutory program authority for the Draft Initial Comprehensive Plan is found in subtitle F of the Moving Ahead for Progress in the 21st Century Act (“MAP-21”), Pub. L. 112-141, 126 Stat. 405 (Jul. 6, 2012).

Dated: June 25, 2013.
Cameron F. Kerry,
Acting Secretary of Commerce, Chair, Gulf Coast Ecosystem Restoration Council.

[FR Doc. 2013-15696 Filed 6-28-13; 8:45 am]

BILLING CODE 3510-EA-P